DEPARTMENT OF COMMERCE

National Oceanic and Atmospheric Administration

AGENCY: National Oceanic and Atmospheric Administration (NOAA), Commerce.

ACTION: Notice of intent to conduct a natural resource damage assessment at the Diamond Alkali Superfund Site in New Jersey.

SUMMARY: The National Oceanic and Atmospheric Administration, acting as the lead administrative trustee on behalf of itself and the U.S. Department of the Interior, collectively acting as Federal natural resource trustees (Federal Trustees), have concluded their preliminary investigation of potential injuries to natural resources under their trusteeship that may have occurred as the result of releases of hazardous substances at or from the Diamond Alkali Superfund Site (ASite@). Pursuant to 43 CFR 11, the Federal Trustees have completed a Preassessment Screen (“PAS”). The Federal Trustees made the determination to perform a natural resource damage assessment for the Site. Notice letters have been issued to potentially responsible parties (PRPs) to participate in the development and performance of this assessment, and in its funding.

FOR FURTHER INFORMATION CONTACT: PRPs that are being noticed are requested to provide a response within 30 calendar days of receipt of their notice letters, stating whether they wish to participate in this process. PRPs are asked to send responses to: Eli Reinharz, NOAA Assessment and Restoration Division, 1305 East-West Highway, N/ORR3, SSMC#4, Room 10342, Silver Spring, Maryland, 20910-3281.

For further information regarding the notice letters, please feel free to contact Eli Reinharz (NOAA) at (301) 713-4248 ext.193, eli.reinharz@noaa.gov, or Tim Kubiak (FWS) at (609) 646-9310, tim_kubiak@fws.gov. Legal questions should be addressed to Linda Burlington (NOAA) at (301) 713-1332, linda.b.burlington@noaa.gov, or Mark Barash (DOI) at (617) 527-2103, r5mbarash@gmail.com.

SUPPLEMENTARY INFORMATION: Please be advised that the National Oceanic and Atmospheric Administration, acting as the lead administrative trustee on behalf of itself and the U. S. Department of the Interior, collectively acting as Federal natural resource trustees (Federal Trustees), have concluded their preliminary investigation of potential injuries to natural resources under their trusteeship that may have occurred as the result of releases of hazardous substances at or from the Diamond Alkali Superfund Site (ASite@). Pursuant to 43 CFR part 11, the Federal Trustees have completed a Preassessment Screen (“PAS”). The complete PAS may be found at http://www.darrp.noaa/gov/northeast/passaic/injury.html.

The two agencies cited serve as Federal Trustees under authority of Subpart G of the National Contingency Plan, 40 CFR 300.600(b)(1-3), and 300.605.

Information gathered and presented in the PAS forms the basis of the Federal Trustees—conclusion that the following criteria are met:

1. A release of a hazardous substance has occurred.

2. Natural resources for which the Federal Trustees may assert trusteeship under the Comprehensive Environmental Response, Compensation, and Liability Act (CERCLA) are or are likely to be adversely affected by the release.

3. The quantity and concentration of the released hazardous substances are sufficient to potentially cause injury to natural resources for which the Trustees may assert trusteeship under CERCLA.

4. Data sufficient to pursue a natural resource damage assessment are available or likely to be obtained at a reasonable cost.

5. Currently implemented and planned response actions will not sufficiently remedy the injury to natural resources without further action.

Based upon the above findings, the Federal Trustees made the determination to perform a natural resource damage assessment for the Site, and have issued letters to those companies identified as PRPs in connection with the release of hazardous substances and the subsequent damages resulting from natural resource injury. The Notice of Intent to Perform an Assessment is provided pursuant to 43 CFR 11.32(a)(2)(iii)(A). Accordingly, PRPs are invited to participate in the development and performance of this assessment, and in its funding. Note that other PRPs are being noticed at this time, and the Federal Trustees may in the future also provide notices to additional PRPs as may be deemed appropriate.

Dated: August 3, 2007.
Ken Barton,
Acting Director, Office of Response and Restoration, National Ocean Service, National Oceanic and Atmospheric Administration.

[FR Doc. E7-15464 Filed 8-7-07; 8:45 am]

BILLING CODE 3510-JE-P